DEPARTMENT OF ENERGY

Federal Energy Regulatory Commission

Combined Notice of Filings No. 1

September 20, 2010.

Take notice that the Commission has received the following Natural Gas Pipeline Rate and Refund Report filings:

Docket Numbers: RP10-1305-000.

Applicants: Venice Gathering System, L.L.C.

Description: Venice Gathering System, L.L.C. submits tariff filing per 154.203: NAESB 1.9 Compliance Filing to be effective 11/1/2010.

Filed Date: 09/15/2010.

Accession Number: 20100915-5212.

Comment Date: 5 p.m. Eastern Time on Monday, September 27, 2010.

Docket Numbers: RP10-1306-000.

Applicants: Black Marlin Pipeline Company.

Description: Black Marlin Pipeline Company submits tariff filing per 154.203: Baseline Tariff Resubmittal to be effective 8/26/2010.

Filed Date: 09/16/2010.

Accession Number: 20100916-5133.

Comment Date: 5 p.m. Eastern Time on Tuesday, September 28, 2010.

Docket Numbers: RP10-1307-000.

Applicants: Transcontinental Gas Pipe Line Company, LLC.

Description: Transcontinental Gas Pipe Line Company, LLC submits tariff filing per 154.403: Interim TEP Tracker Filing to be effective 10/17/2010.

Filed Date: 09/16/2010.

Accession Number: 20100916-5137.

Comment Date: 5 p.m. Eastern Time on Tuesday, September 28, 2010.

Docket Numbers: RP10-1308-000.

Applicants: National Grid LNG, LP.

Description: National Grid LNG, LP submits First Revised Sheet No. 31 et al. to FERC Gas Tariff, Fourth Revised Volume No. 1, effective 11/1/10.

Filed Date: 09/16/2010.

Accession Number: 20100917-0201.

Comment Date: 5 p.m. Eastern Time on Tuesday, September 28, 2010.

Docket Numbers: RP10-1309-000.

Applicants: Dominion Cove Point LNG, LP.

Description: Dominion Cove Point LNG, LP submits tariff filing per 154.203: DCP—Revenue Crediting Report to be effective N/A.

Filed Date: 09/17/2010.

Accession Number: 20100917-5087.

Comment Date: 5 p.m. Eastern Time on Wednesday, September 29, 2010.

Docket Numbers: RP10-1310-000.

Applicants: Tennessee Gas Pipeline Company.

Description: Tennessee Gas Pipeline Company submits tariff filing per 154.204: Exhibit A Filing to be effective 9/22/2010.

Filed Date: 09/17/2010.

Accession Number: 20100917-5150.

Comment Date: 5 p.m. Eastern Time on Wednesday, September 29, 2010.

Docket Numbers: RP10-1311-000.

Applicants: El Paso Natural Gas Company.

Description: El Paso Natural Gas Company submits tariff filing per 154.204: Non-Conforming Agreements to be effective 10/18/2010.

Filed Date: 09/17/2010.

Accession Number: 20100917-5171.

Comment Date: 5 p.m. Eastern Time on Wednesday, September 29, 2010.

Docket Numbers: RP10-1312-000.

Applicants: KO Transmission Company.

Description: KO Transmission Company submits tariff filing per 154.203: Baseline Filing to be effective 9/20/2010.

Filed Date: 09/20/2010.

Accession Number: 20100920-5047.

Comment Date: 5 p.m. Eastern Time on Monday, October 04, 2010.

Docket Numbers: CP10-500-000.

Applicants: Enbridge Offshore Pipelines (UTOS) LLC.

Description: Application for Abandonment of Rate Schedule X-1 of Enbridge Offshore Pipelines (UTOS) LLC.

Filed Date: 09/17/2010.

Accession Number: 20100917-5146.

Comment Date: 5 p.m. Eastern Time on Wednesday, September 29, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25077 Filed 10-5-10; 8:45 am]

BILLING CODE 6717-01-P